INTERNATIONAL TRADE COMMISSION

[Inv. No. 337-TA-486 Enforcement Proceedings]

Certain Agricultural Tractors, Lawn Tractors, Riding Lawnmowers, and Components Thereof; Notice of a Commission Determination Not To Review an Initial Determination Finding Two Respondents in Default

AGENCY: International Trade Commission.

ACTION: Notice.

SUMMARY: Notice is hereby given that the U.S. International Trade Commission has determined not to review an initial determination (ID) of the presiding administrative law judge (ALJ) in the above-captioned investigation finding two respondents, Beiqi Foton Motor Co., Ltd. and Shandong Worldbest Shantou Co., Ltd., in default, and to have waived their respective rights to appear, to be served with documents, and to contest the allegations at issue in the investigation.

FOR FURTHER INFORMATION CONTACT: Michael K. Haldenstein, Esq., telephone 202-205-3041, Office of the General Counsel, U.S. International Trade Commission, 500 E Street, SW., Washington, DC 20436. Copies of all nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS-ON-LINE) at http://edis.usitc.gov. Hearing-impaired persons are advised that information on the matter can be obtained by contacting the Commission's TDD terminal on 202-205-1810.

SUPPLEMENTARY INFORMATION: On August, 2, 2004, the complainant, CNH America LLC, filed a complaint seeking enforcement proceedings of the limited exclusion order issued in Certain Agricultural Tractors, Inv. No. 337-TA-486. The complainant asserted that the recipient of the limited order, now known as Beiqi Foton Motor Co., Ltd., continues to export infringing tractors to the United States. Complainant also requested that the Commission modify the limited exclusion order by replacing it with a general exclusion order and various cease and desist orders in order to prevent alleged circumvention of the limited exclusion order.

On November 19, 2004, the Commission instituted formal enforcement proceedings to determine whether Beiqi Foton Motor Co. Ltd. and Shandong Worldbest Shantou Co., Ltd., an allegedly related company, are in violation of the Commission's limited exclusion order issued in the investigation, and what if any enforcement measures are appropriate. The Commission set a seven-month deadline for issuance of the enforcement initial determination by the ALJ and named the following entities as parties to the enforcement proceeding: (1) Complainant CNH America LLC; (2) respondent Beiqi Foton Motor Co., Ltd.; (3) respondent Shandong Worldbest Shantou Co., Ltd.; and (4) a Commission investigative attorney (IA) to be designated by OUII. 69 FR 67757 (Nov. 19, 2004). The Commission subsequently set a target date of November 21, 2005 for completion of the investigation.

The complaint was mailed to the two respondents on November 17, 2004, and they were notified in the letter accompanying the complaint that they could be found in default if they failed to respond. When they did not respond, the ALJ issued a show cause order (Order 1E) on December 29, 2004, which required the two respondents to show cause why they should not be found in default. A deadline of January 18, 2005, was set for the respondents to respond to that order. While respondents did not respond to the show cause order, complainant and the IA responded on January 18, 2005, and urged the ALJ to find the two respondents in default.

The ALJ issued the subject ID (Order 2E) on February 4, 2005. The ALJ found in the ID that the two respondents did not respond to the complaint, notice of investigation, or the order to show cause. Consequently, the ALJ found the respondents in default, and pursuant to Commission Rule 210.16(b)(3), to have waived their right to appear, be served with documents, or contest the allegations in the enforcement complaint. The ALJ also ordered the complainant to file a brief by February 23, 2005, addressing the appropriate enforcement remedy. The ALJ indicated that the IA should file a response to complainant's brief by March 4, 2005. No petitions for review of the subject ID were filed.

This action is taken under the authority of § 337 of the Tariff Act of 1930, as amended (19 U.S.C. 1337), and § 210.42 of the Commission's Rules of Practice and Procedure (19 CFR 210.42).

Issued: February 23, 2005.
By order of the Commission.
Marilyn R. Abbott,
Secretary to the Commission.

[FR Doc. 05-3905 Filed 2-28-05; 8:45 am]

BILLING CODE 7020-02-P